DEPARTMENT OF TRANSPORTATION

Federal Aviation Administration

14 CFR Part 97

[Docket No. 31000; Amdt. No. 3628]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective February 27, 2015. The compliance date for each SIAP, associated Takeoff Minimums, and ODP is specified in the amendatory provisions.

The incorporation by reference of certain publications listed in the regulations is approved by the Director of the Federal Register as of February 27, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on January 16, 2015.
John Duncan,
Director, Flight Standards Service.

Adoption of the Amendment

Accordingly, pursuant to the authority delegated to me, Title 14, Code of Federal Regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC Date | State | City | Airport | FDC No. | FDC Date | Subject
5-Mar-15 | KS | Concordia | Blosser Muni | 4/0379 | 01/07/15 | RNAV (GPS) RWY 35, Orig.
5-Mar-15 | MO | St Joseph | Rosecrans Memorial | 4/0409 | 01/12/15 | RNAV (GPS) RWY 13, Orig.
5-Mar-15 | MO | St Joseph | Rosecrans Memorial | 4/1601 | 01/12/15 | RNAV (GPS) RWY 35, Amdt 2.
5-Mar-15 | MO | St Joseph | Rosecrans Memorial | 4/1607 | 01/12/15 | VOR OR TACAN RWY 17, Amdt 14.
5-Mar-15 | NE | Omaha | Eppley Airfield | 4/1733 | 01/12/15 | ILS OR LOC RWY 32L, Amdt 2.
5-Mar-15 | NE | Omaha | Eppley Airfield | 4/1734 | 01/12/15 | ILS OR LOC RWY 36, Orig-A.
5-Mar-15 | NE | Omaha | Eppley Airfield | 4/1735 | 01/12/15 | RNAV (RNP) Z RWY 32R, Orig.
5-Mar-15 | NE | Omaha | Eppley Airfield | 4/1736 | 01/12/15 | ILS OR LOC/DME RWY 14L, Amdt 1B.
5-Mar-15 | NE | Omaha | Eppley Airfield | 4/1737 | 01/12/15 | RNAV (RNP) Z RWY 14L, Orig.
5-Mar-15 | NE | O'Neill | The O'Neill Muni-John L Baker Field | 4/1742 | 01/06/15 | VOR RWY 31, Amdt 1A.
5-Mar-15 | NE | O'Neill | The O'Neill Muni-John L Baker Field | 4/1746 | 01/06/15 | VOR RWY 13, Amdt 5B.
5-Mar-15 | NE | O'Neill | The O'Neill Muni-John L Baker Field | 4/1747 | 01/06/15 | RNAV (GPS) RWY 13, Amdt 1.
5-Mar-15 | NE | O'Neill | The O'Neill Muni-John L Baker Field | 4/1748 | 01/06/15 | RNAV (GPS) RWY 31, Amdt 1.
5-Mar-15 | NE | Scribner | Scribner State | 4/1749 | 01/06/15 | RNAV (GPS) RWY 17, Amdt 1.
5-Mar-15 | NM | Clayton | Clayton Muni Arpk | 4/1759 | 01/06/15 | RNAV (GPS) RWY 20, Amdt 2.
5-Mar-15 | NM | Clayton | Clayton Muni Arpk | 4/1762 | 01/06/15 | RNAV (GPS) RWY 2, Amdt 2.
5-Mar-15 | NM | Carlsbad | Cavern City Air Trml | 4/1764 | 01/06/15 | RNAV (GPS) RWY 3, Orig.
5-Mar-15 | NM | Carlsbad | Cavern City Air Trml | 4/1765 | 01/06/15 | RNAV (GPS) RWY 14R, Amdt 1.
5-Mar-15 | NM | Carlsbad | Cavern City Air Trml | 4/1766 | 01/06/15 | RNAV (GPS) RWY 21, Amdt 1.
5-Mar-15 | NM | Carlsbad | Cavern City Air Trml | 4/1767 | 01/06/15 | RNAV (GPS) RWY 32L, Amdt 1.
5-Mar-15 | NM | Los Alamos | Los Alamos | 4/1770 | 01/06/15 | RNAV (GPS) Z RWY 27, Orig.
5-Mar-15 | NM | Los Alamos | Los Alamos | 4/1771 | 01/06/15 | RNAV (GPS) Y RWY 27, Amdt 1.
5-Mar-15 | NM | Socorro | Socorro Muni | 4/1773 | 01/07/15 | RNAV (GPS) RWY 33, Amdt 1.
5-Mar-15 | NM | Roswell | Roswell Intl Air Center | 4/1775 | 01/07/15 | ILS OR LOC RWY 21, Amdt 18.
5-Mar-15 | NM | Raton | Raton Muni/Crews Field | 4/1778 | 01/07/15 | RNAV (GPS) RWY 2, Orig.
5-Mar-15 | NM | Raton | Raton Muni/Crews Field | 4/1781 | 01/07/15 | RNAV (GPS) RWY 25, Orig.
5-Mar-15 | NM | Ruidoso | Sierra Blanca Rgnl | 4/1782 | 01/07/15 | RNAV (GPS) RWY 24, Orig.
5-Mar-15 | SD | Gettysburg | Gettysburg Muni | 4/1783 | 01/07/15 | RNAV (GPS) RWY 13, Amdt 2.
5-Mar-15 | SD | Gettysburg | Gettysburg Muni | 4/1784 | 01/07/15 | RNAV (GPS) RWY 31, Amdt 2.
5-Mar-15 | SD | Parkston | Parkston Muni | 4/1785 | 01/07/15 | RNAV (GPS) RWY 15, Orig.
5-Mar-15 | SD | Parkston | Parkston Muni | 4/1786 | 01/07/15 | RNAV (GPS) RWY 33, Orig.
5-Mar-15 | SD | Sturgis | Sturgis Muni | 4/1791 | 01/07/15 | RNAV (GPS) RWY 29, Amdt 1.
5-Mar-15 | SD | Wagner | Wagner Muni | 4/1792 | 01/07/15 | RNAV (GPS) RWY 27, Orig.
5-Mar-15 | SD | Belle Fourche | Belle Fourche Muni | 4/1793 | 01/07/15 | RNAV (GPS) RWY 32, Amdt 1.
5-Mar-15 | SD | Yankton | Chan Gurney Muni | 4/1820 | 01/07/15 | ILS OR LOC RWY 31, Amdt 4.
5-Mar-15 | SD | Yankton | Chan Gurney Muni | 4/1821 | 01/07/15 | NDB RWY 31, Amdt 3.
5-Mar-15 | SD | Yankton | Chan Gurney Muni | 4/1822 | 01/07/15 | RNAV (GPS) RWY 31, Orig.
5-Mar-15 | SD | Yankton | Chan Gurney Muni | 4/1824 | 01/07/15 | VOR RWY 31, Amdt 3A.
5-Mar-15 | PA | Doylestown | Doylestown | 4/2203 | 01/13/15 | RNAV (GPS) RWY 23, Amdt 1.
5-Mar-15 | PA | Doylestown | Doylestown | 4/2204 | 01/13/15 | RNAV (GPS) RWY 5, Orig.
5-Mar-15 | TX | Dallas | Collin County Rgnl At Mc Kinney | 4/2231 | 01/06/15 | ILS OR LOC RWY 18, Amdt 5.
5-Mar-15 | TX | Dallas | Collin County Rgnl At Mc Kinney | 4/2232 | 01/06/15 | RNAV (GPS) RWY 18, Amdt 2.
5-Mar-15 | OK | Perry | Perry Muni | 4/2509 | 01/06/15 | RNAV (GPS) RWY 17, Orig.
5-Mar-15 | OK | Perry | Perry Muni | 4/2510 | 01/06/15 | VOR/DME RWY 17, Amdt 3A.
5-Mar-15 | AK | Dillingham | Dillingham | 4/2511 | 01/08/15 | LOC/DME RWY 19, Amdt 6D.
5-Mar-15 | ND | Pembina | Pembina Muni | 4/2555 | 01/07/15 | RNAV (GPS) RWY 33, Orig.
5-Mar-15 | MI | Cheboygan | Cheboygan County | 4/2645 | 01/07/15 | RNAV (GPS) RWY 10, Amdt 3.
5-Mar-15 | MI | Cheboygan | Cheboygan County | 4/2646 | 01/07/15 | VOR RWY 10, Amdt 9.
5-Mar-15 | MI | Cheboygan | Cheboygan County | 4/2648 | 01/07/15 | RNAV (GPS) RWY 28, Amdt 2.
5-Mar-15 | OK | Antlers | Antlers Muni | 4/2727 | 01/07/15 | RNAV (GPS) RWY 35, Orig.
5-Mar-15 | OK | Oklahoma City | Sundance Airpark | 4/2728 | 01/07/15 | RNAV (GPS) RWY 17, Amdt 1A.
5-Mar-15 | OK | Oklahoma City | Sundance Airpark | 4/2729 | 01/07/15 | LOC RWY 17, Orig-E.
5-Mar-15 | OK | Oklahoma City | Sundance Airpark | 4/2730 | 01/07/15 | VOR RWY 17, Amdt 1C.
5-Mar-15 | IL | Springfield | Abraham Lincoln Capital | 4/2784 | 01/13/15 | VOR/DME RWY 31, Amdt 1.
5-Mar-15 | AK | Fort Yukon | Fort Yukon | 4/2840 | 01/07/15 | RNAV (GPS) RWY 4, Amdt 1B.
5-Mar-15 | AK | Fort Yukon | Fort Yukon | 4/2841 | 01/07/15 | RNAV (GPS) RWY 22, Amdt 1B.
5-Mar-15 | TX | Houston | George Bush Intercontinental/Houston | 4/2947 | 01/07/15 | GLS RWY 26L, Amdt 1.
5-Mar-15 | TX | Houston | George Bush Intercontinental/Houston | 4/2949 | 01/07/15 | RNAV (GPS) Z RWY 26L, Amdt 4.
5-Mar-15 | TX | Houston | George Bush Intercontinental/Houston | 4/2950 | 01/07/15 | RNAV (RNP) Y RWY 26L, Orig-A.
5-Mar-15 | TX | Houston | George Bush Intercontinental/Houston | 4/2951 | 01/07/15 | ILS OR LOC RWY 26L, ILS RWY 26L (SA CAT I), ILS RWY 26L (CAT II & III), Amdt 21A.
5-Mar-15 | CA | Santa Rosa | Charles M Schulz—Sonoma County | 4/3231 | 01/13/15 | VOR/DME RWY 14, Amdt 3.
5-Mar-15 | GA | Atlanta | Atlanta Rgnl Falcon Field | 4/7646 | 01/07/15 | ILS OR LOC RWY 31, Amdt 2A.
5-Mar-15 | GA | Atlanta | Atlanta Rgnl Falcon Field | 4/7647 | 01/07/15 | NDB RWY 31, Amdt 3A.
5-Mar-15 | GA | Atlanta | Atlanta Rgnl Falcon Field | 4/7648 | 01/07/15 | RNAV (GPS) RWY 31, Amdt 2A.
5-Mar-15 | AK | Minchumina | Minchumina | 4/8112 | 01/08/15 | NDB RWY 3, Amdt 3C.
5-Mar-15 | AK | Kotlik | Kotlik | 4/8355 | 01/08/15 | RNAV (GPS) RWY 2, Orig-B.
5-Mar-15 | AK | Nome | Nome | 5/0579 | 01/13/15 | NDB A, Amdt 1.
5-Mar-15 | MI | Traverse City | Cherry Capital | 5/0625 | 01/08/15 | ILS OR LOC RWY 28, Amdt 14A.
5-Mar-15 | MI | Traverse City | Cherry Capital | 5/0627 | 01/08/15 | RNAV (GPS) RWY 10, Amdt 1.
5-Mar-15 | MI | Traverse City | Cherry Capital | 5/0629 | 01/08/15 | RNAV (GPS) RWY 18, Orig.
5-Mar-15 | SD | Mobridge | Mobridge Muni | 5/0804 | 01/08/15 | RNAV (GPS) RWY 30, Amdt 1.
5-Mar-15 | MO | Clinton | Clinton Rgnl | 5/0805 | 01/08/15 | RNAV (GPS) RWY 4, Amdt 1.
5-Mar-15 | MO | Clinton | Clinton Rgnl | 5/0806 | 01/08/15 | NDB RWY 4, Amdt 8.
5-Mar-15 | MO | Clinton | Clinton Rgnl | 5/0807 | 01/08/15 | NDB RWY 22, Amdt 9.
5-Mar-15 | MO | Clinton | Clinton Rgnl | 5/0808 | 01/08/15 | RNAV (GPS) RWY 22, Amdt 1.
5-Mar-15 | OR | Portland | Portland-Troutdale | 5/1391 | 01/08/15 | RNAV (GPS)-A, Orig.
5-Mar-15 | WA | Pasco | Tri-Cities | 5/1969 | 01/12/15 | VOR/DME RWY 30, Amdt 5.
5-Mar-15 | MO | St Joseph | Rosecrans Memorial | 5/2031 | 01/12/15 | VOR/DME OR TACAN RWY 35, Orig.
5-Mar-15 | MO | St Joseph | Rosecrans Memorial | 5/2032 | 01/12/15 | ILS OR LOC RWY 35, Amdt 31A.
5-Mar-15 | AR | Arkadelphia | Dexter B Florence Memorial Field | 5/2038 | 01/12/15 | RNAV (GPS) RWY 4, Amdt 1.
5-Mar-15 | AR | Arkadelphia | Dexter B Florence Memorial Field | 5/2039 | 01/12/15 | RNAV (GPS) RWY 22, Orig.
5-Mar-15 | NE | Omaha | Eppley Airfield | 5/2040 | 01/12/15 | ILS OR LOC RWY 32R, ILS RWY 32R (CAT II & CAT III), Orig-C.
5-Mar-15 | AK | Akutan | Akutan | 5/2236 | 01/12/15 | RNAV (GPS)-A, Amdt 1.
5-Mar-15 | NY | Rochester | Greater Rochester Intl | 5/2520 | 01/13/15 | RNAV (GPS) RWY 4, Amdt 2.
5-Mar-15 | NY | Rochester | Greater Rochester Intl | 5/2521 | 01/13/15 | ILS OR LOC RWY 22, Amdt 8.
5-Mar-15 | NY | Rochester | Greater Rochester Intl | 5/2522 | 01/13/15 | RNAV (GPS) RWY 22, Amdt 2.
5-Mar-15 | NY | Rochester | Greater Rochester Intl | 5/2523 | 01/13/15 | ILS OR LOC RWY 28, Amdt 31.
5-Mar-15 | NY | Rochester | Greater Rochester Intl | 5/2524 | 01/13/15 | RNAV (GPS) RWY 28, Amdt 2.
5-Mar-15 | NY | Rochester | Greater Rochester Intl | 5/2525 | 01/13/15 | RNAV (GPS) RWY 10, Amdt 1.
5-Mar-15 | NY | Rochester | Greater Rochester Intl | 5/2526 | 01/13/15 | RNAV (GPS) RWY 7, Amdt 1.
5-Mar-15 | NY | Rochester | Greater Rochester Intl | 5/2527 | 01/13/15 | RNAV (GPS) RWY 25, Amdt 1.
5-Mar-15 | NY | Rochester | Greater Rochester Intl | 5/2528 | 01/13/15 | VOR RWY 4, Amdt 12.
5-Mar-15 | NY | Rochester | Greater Rochester Intl | 5/2529 | 01/13/15 | VOR/DME RWY 4, Amdt 4.
5-Mar-15 | NY | Rochester | Greater Rochester Intl | 5/2530 | 01/13/15 | ILS OR LOC RWY 4, ILS RWY 4 (SA CAT I), ILS RWY 4 (CAT II), Amdt 21.
5-Mar-15 | MD | Gaithersburg | Montgomery County Airpark | 5/2542 | 01/13/15 | RNAV (GPS) RWY 14, Amdt 3A.
5-Mar-15 | MD | Gaithersburg | Montgomery County Airpark | 5/2543 | 01/13/15 | RNAV (GPS)-A, Orig.
5-Mar-15 | ME | Portland | Portland Intl Jetport | 5/2548 | 01/13/15 | RNAV (GPS) RWY 18, Amdt 1.
5-Mar-15 | ME | Portland | Portland Intl Jetport | 5/2549 | 01/13/15 | RNAV (GPS) RWY 36, Amdt 1.
5-Mar-15 | NH | Manchester | Manchester | 5/2550 | 01/13/15 | ILS OR LOC/DME RWY 17, Amdt 2.
5-Mar-15 | SC | Charleston | Charleston Executive | 5/2553 | 01/13/15 | RNAV (GPS) RWY 27, Amdt 2.
5-Mar-15 | GA | Atlanta | Covington Muni | 5/2559 | 01/13/15 | NDB RWY 28, Amdt 3A.
5-Mar-15 | GA | Atlanta | Covington Muni | 5/2560 | 01/13/15 | RNAV (GPS) RWY 28, Amdt 1A.
5-Mar-15 | GA | Atlanta | Covington Muni | 5/2561 | 01/13/15 | RNAV (GPS) RWY 10, Amdt 1.
5-Mar-15 | GA | Atlanta | Covington Muni | 5/2562 | 01/13/15 | VOR/DME RWY 10, Amdt 5A.
5-Mar-15 | FL | Punta Gorda | Punta Gorda | 5/2563 | 01/13/15 | VOR RWY 22, Amdt 4B.
5-Mar-15 | NY | Farmingdale | Republic | 5/2583 | 01/13/15 | RNAV (GPS) Y RWY 14, Amdt 2B.
5-Mar-15 | FL | Tampa | Tampa Executive | 5/2825 | 01/13/15 | RNAV (GPS) RWY 5, Orig-A.
5-Mar-15 | FL | Tampa | Tampa Executive | 5/2826 | 01/13/15 | ILS OR LOC RWY 23, Amdt 1B.
5-Mar-15 | FL | Tampa | Tampa Executive | 5/2827 | 01/13/15 | RNAV (GPS) RWY 23, Amdt 1B.

[FR Doc. 2015-03932 Filed 2-26-15; 8:45 am]

BILLING CODE 4910-13-P